NUCLEAR REGULATORY COMMISSION

[NRC-2022-0076]

Draft Interim Staff Guidance: Advanced Reactor Content of Application Project Chapter 9, “Control of Routine Plant Radioactive Effluents, Plant Contamination and Solid Waste”

AGENCY: Nuclear Regulatory Commission.

ACTION: Draft guidance; extension of comment period.

SUMMARY: On May 25, 2023, the U.S. Nuclear Regulatory Commission (NRC) solicited comments on its draft Interim Staff Guidance (ISG) DANU-ISG-2022-03, Chapter 9, “Control of Routine Plant Radioactive Effluents, Plant Contamination and Solid Waste.” The public comment period was originally scheduled to close on July 10, 2023. The NRC has decided to extend the public comment period to allow more time for members of the public to develop and submit their comments.

DATES: The due date of comments requested in the document published on May 25, 2023 (88 FR 33930) is extended. Comments should be filed no later than August 10, 2023. Comments received after this date will be considered, if it is practical to do so, but the Commission is able to ensure consideration only for comments received on or before this date.

ADDRESSES: You may submit comments by any of the following methods; however, the NRC encourages electronic comment submission through the Federal rulemaking website.

• Federal rulemaking Website: Go to http://www.regulations.gov and search for Docket ID NRC-2022-0076. Address questions about Docket IDs in Regulations.gov to Stacy Schumann; telephone: 301-415-0624; email: Stacy.Schumann@nrc.gov. For technical questions, contact the individuals listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Orenak, Office of Nuclear Reactor Regulation, U.S. Nuclear Regulatory Commission, Washington, DC 20555-0001, telephone: 301-415-3229, email: Michael.Orenak@nrc.gov.

SUPPLEMENTARY INFORMATION:

I. Obtaining Information and Submitting Comments

A. Obtaining Information

Please refer to Docket ID NRC-2022-0076 when contacting the NRC about the availability of information for this action. You may obtain publicly available information related to this action by any of the following methods:

• Federal Rulemaking Website: Go to https://www.regulations.gov and search for Docket ID NRC-2022-0076.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2022-0076 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On May 25, 2023, the NRC published a document in the Federal Register (88 FR 33930) requesting comments on its draft ISG DANU-ISG-2022-03, Chapter 9, “Control of Routine Plant Radioactive Effluents, Plant Contamination and Solid Waste.” The public comment period was originally scheduled to close on July 10, 2023. The NRC has decided to extend the public comment period on this document until August 10, 2023, to allow more time for members of the public to submit their comments.

Dated: June 22, 2023.
For the Nuclear Regulatory Commission.
Steven T. Lynch,
Chief, Advanced Reactor Policy Branch, Division of Advanced Reactors and Non-Power Production and Utilization Facilities, Office of Nuclear Reactor Regulation.

[FR Doc. 2023-13685 Filed 6-27-23; 8:45 am]

BILLING CODE 7590-01-P